DEPARTMENT OF COMMERCE

National Oceanic and Atmospheric Administration

[I.D. 022200I]

Mid-Atlantic Fishery Management Council; Public Meetings

AGENCY: National Marine Fisheries Service (NMFS), National Oceanic and Atmospheric Administration (NOAA), Commerce.

ACTION: Notice of public meetings.

SUMMARY: The Mid-Atlantic Fishery Management Council (Council) and its Monkfish Working Group, Dogfish Working Group, Comprehensive Management Committee, Surfclam and Ocean Quahog Committee and Industry Advisory Panel, Squid-Mackerel-Butterfish Committee, Information and Education Committee, and Executive Committee will hold public meetings.

DATES: The meetings will be held on Tuesday, March 14, 2000 to Thursday, March 16, 2000. See SUPPLEMENTARY INFORMATION for specific dates and times.

ADDRESSES: The meetings will be held at the Wyndham Garden Hotel, 173 Jennifer Road, Annapolis, MD; telephone: 410-266-3131.

Council address: Mid-Atlantic Fishery Management Council, 300 S. New Street, Dover, DE 19904, telephone: 302-674-2331.

FOR FURTHER INFORMATION CONTACT: Daniel T. Furlong, Executive Director, Mid-Atlantic Fishery Management Council; telephone: 302-674-2331, ext. 19.

SUPPLEMENTARY INFORMATION: Tuesday, March 14th, 10:00 a.m. until noon, the Monkfish Working Group will meet.

From 1:00-3:00 p.m., the Dogfish Working Group will meet.

From 3:00-5:00 p.m., the Comprehensive Management Committee will meet.

Wednesday, March 15th, from 9:00-10:00 a.m., there will be a Stock Assessment Workshop Presentation

From 10:00 a.m. until noon, the Surfclam and Ocean Quahog Committee together with the Industry Advisory Panel will meet.

From 1:00-3:00 p.m., the Squid, Mackerel, and Butterfish Committee will meet

From 3:00-5:00 p.m., the Council will convene to review and discuss the fishery management process as presented by the Information and Education Committee.

Thursday, March 16th, from 8:00-9:00 a.m., the Executive Committee will meet.

The Council will convene for a U.S. Coast Guard Presentation from 9:00-9:30 a.m., and then receive reports and possible motions from various committees. It is anticipated that the Council will adjourn by early afternoon.

Agenda items for this meeting are:

Discuss and recommend area adjustments through the amendment process to the Monkfish Fishery Management Plan; review 2000-2001 management measures for dogfish, i.e., quota, trip limits, sizes, and review treatment of discards from other fisheries; discuss research set aside amendment and summer flounder workshop(s) postponement; receive assessment information on Atlantic mackerel and surfclams; discuss 5-year quotas and new overfishing definition for surfclams; discuss mackerel limited entry, Illex real time management, overfishing definition for Loligo, area closures to protect Loligo egg masses, and consider distribution of Loligo squid quota into time periods.

Although non-emergency issues not contained in this agenda may come before the Council for discussion, these issues may not be the subject of formal Council action during this meeting. Council action will be restricted to those issues specifically listed in this notice and any issues arising after publication of this notice that require emergency action under section 305(c) of the Magnuson-Stevens Fishery Conservation and Management Act, provided the public has been notified of the Council's intent to take final actions to address such emergencies.

Special Accommodations

These meetings are physically accessible to people with disabilities. Requests for sign language interpretation or other auxiliary aids should be directed to Joanna Davis at least 5 days prior to the meeting date.

Dated: February 23, 2000.
Bruce C. Morehead,
Acting Director, Office of Sustainable Fisheries, National Marine Fisheries Service.

[FR Doc. 00-4771 Filed 2-28-00; 8:45 am]

BILLING CODE 3510-22-F